NUCLEAR REGULATORY COMMISSION

Advisory Committee on the Medical Uses of Isotopes: Call for Nominations

AGENCY: U.S. Nuclear Regulatory Commission.

ACTION: Call for nominations.

SUMMARY: The U.S. Nuclear Regulatory Commission (NRC) is soliciting nominations for the Health Care Administrator position on the Advisory Committee of the Medical Uses of Isotopes (ACMUI). Health Care Administrator nominees should have professional experience with and/or extensive knowledge about health care administration. Involvement and leadership in professional societies or organizations is preferred.

DATES: Nominations are due on or before April 5, 2021.

ADDRESSES: Nomination Process: Submit an electronic copy of resume or curriculum vitae, along with a cover letter, to Ms. Kellee Jamerson, Kellee.Jamerson@nrc.gov. The cover letter should describe the nominee's current involvement with health care administration and express the nominee's interest in the position. Please ensure that the resume or curriculum vitae includes the following information, if applicable: Education; certification(s); professional association and committee membership activities; and number of years, timeframe, and type of setting for health care administration.

FOR FURTHER INFORMATION CONTACT: Ms. Kellee Jamerson, U.S. Nuclear Regulatory Commission, Office of Nuclear Material Safety and Safeguards; (301) 415-7408; Kellee.Jamerson@nrc.gov.

SUPPLEMENTARY INFORMATION: The ACMUI Health Care Administrator representative provides advice to the NRC staff on a broad perspective of various interests, to include, patients' interests, physicians' interests, and hospitals' interests, as they apply to radiation safely, the treatment of patients, and NRC's medical-use policy. This individual is appointed based on his or her educational background, certification(s), professional experience, involvement and/or leadership in professional societies or organizations, and other information obtained in letters or during the selection process.

The ACMUI advises the NRC on policy and technical issues that arise in the regulation of the medical use of byproduct material. Responsibilities include providing comments on changes to the NRC regulations and guidance; evaluating certain non-routine uses of byproduct material; providing technical assistance in licensing, inspection, and enforcement cases; and bringing key issues to the attention of the NRC staff, for appropriate action.

ACMUI members are selected based on their educational background, certification(s), work experience, involvement and/or leadership in professional society activities, and other information obtained from recommendation letters or during the selection process. Nominees should have the demonstrated ability to establish effective work relationships with peers and implement successful approaches to problem solving and conflict resolution. ACMUI members currently serve a four-year term and may be considered for reappointment to a second term. The current ACMUI membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; (k) healthcare administrator; and (l) diagnostic radiologist. For additional information about membership on the ACMUI, visit the ACMUI Membership web page, https://www.nrc.gov/about-nrc/regulatory/advisory/acmui/membership.html.

Nominees must be U.S. citizens and be able to devote up to 160 hours per year to ACMUI business. Members are expected to attend semi-annual meetings in Rockville, Maryland and to participate in teleconferences or virtual meetings, as needed. Members who are not Federal employees are compensated for their service. In addition, members are reimbursed for travel (including per diem in lieu of subsistence) and are reimbursed secretarial and correspondence expenses. Full-time Federal employees are reimbursed for travel expenses only.

Security Background Check: The selected nominee will undergo a thorough security background check. Security paperwork may take the nominee several weeks to complete. Nominees will also be required to complete a financial disclosure statement to avoid conflicts of interest.

Dated at Rockville, Maryland this 27th day of January, 2021.
For the U.S. Nuclear Regulatory Commission.
Russell E. Chazell,
Federal Advisory Committee Management Officer.

[FR Doc. 2021-02112 Filed 2-1-21; 8:45 am]

BILLING CODE 7590-01-P